ENVIRONMENTAL PROTECTION AGENCY

[FRL-6987-7]

Chesapeake Bay Program FY2002 Request for Proposals

The U.S. Environmental Protection Agency, Chesapeake Bay Program is issuing a request for proposals (RFP) that will further goals of the Chesapeake 2000 agreement. Up to 750,000 dollars may be available for Fiscal Year 2002. The Chesapeake Bay Program is seeking innovative, cost-effective proposals to accomplish the outcomes listed in the RFP. These outcomes were designed to help meet the Chesapeake 2000 goals. Any nonprofit organization, federal, state or local government agency, interstate agency, college or university is eligible to submit proposals in response to the RFP. Funding will be provided to an organization under the authority of Clean Water Act, section 117.

The RFP will be available May 30, 2001 at the following website: http://www.epa.edu/r3/chespk/ You may receive a paper copy by calling Kim Scalia at 214-814-5421 or by e-mail at scalia.kim@epa.gov or by calling Lori Mackey at 410-267-5715 or by e-mail at mackey.lori@epa.gov. All proposals must be postmarked by Monday, July 16, 2001. Any late, incomplete, or faxed proposals will not be considered.

Diana Esher,
Acting Director, Chesapeake Bay Program Office.

[FR Doc. 01-13511 Filed 5-29-01; 8:45 am]

BILLING CODE 6560-50-M